DEPARTMENT OF AGRICULTURE

Food and Nutrition Service

Agency Information Collection Activities: Proposed Collection; Comment Request; Food Stamp Program: Federal Collection of State Plan of Operations, Operating Guidelines and Forms

AGENCY: Food and Nutrition Service, USDA.

ACTION: Notice.

SUMMARY: In accordance with the Paperwork Reduction Act of 1995, the Food and Nutrition Service (FNS) is publishing for public comment, a summary of a proposed information collection relating to several State Agency Food Stamp Program administrative matters. The proposed collection is a revision of a collection currently approved under OMB No. 0584-0083.

DATES: Comments on this notice must be received by May 25, 2007, to be assured of consideration.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

Send comments and requests for copies of this information collection to Barbara Hallman, Chief, State Administration Branch, Food Stamp Program, Food and Nutrition Service, USDA, 3101 Park Center Drive, Alexandria, VA 22302.

All comments will be summarized and included in the request for Office of Management and Budget approval of the information collection. All comments will become a matter of public record.

FOR FURTHER INFORMATION CONTACT: Barbara Hallman at (703) 305-2383.

SUPPLEMENTARY INFORMATION: Title: Operating Guidelines, Forms and Waivers.

OMB Number: 0584-0083.

Expiration Date: July 2007.

Type of Request: Revision of a currently approved collection.

Abstract: In accordance with section 11(e) of the Food Stamp Act of 1977 (the Act), 7 U.S.C. 2020(e), State agencies are required to submit a Plan of Operation specifying the manner in which the Food Stamp Program will be conducted. The State Plan of Operations, in accordance with current rules at 7 CFR 272.2, consists of a Federal/State Agreement, annual budget and activity statements, and specific attachments relating to the State Plan of Operation. State Plans of Operation are a one-time effort with updates that are provided as necessary.

Under section 16 of the Act, 7 U.S.C. 2025, the Secretary is authorized to pay each State agency an amount equal to 50 percent of all administrative costs involved in each State agency's operation of the FSP. Under corresponding FSP regulations at 7 CFR 272.2, the State agencies must submit annually to FNS for approval, a Budget Projection Statement (Form FNS-366A), which projects the total costs for major areas of FSP operations, and a Program Activity Statement (Form FNS-366B), which provides a summary of FSP operations during the preceding fiscal year. The reports are required to substantiate the costs the State agency expects to incur during the next fiscal year. Form FNS-366A is submitted annually by August 15, for the upcoming fiscal year and Form FNS-366B must be submitted no later than 45 days after the end of each State agency's fiscal year.

Since October 2002, FNS has used the quality control (QC) data to collect information about timeliness of application processing. On February 7, 2005, the final rule on high performance bonuses was published in the Federal Register (70 FR 6313), and included a provision regarding the use of QC data to determine each State's rate of application processing timeliness. Accordingly, in March 2005, FNS notified State agencies that it was eliminating the application timeliness data on the FNS-366B, and instead will continue to rely on the QC data to determine States' application timelines processing rates.

In fiscal year (FY) 2006, 49 percent of State agencies submitted the FNS-366A electronically and 51 percent submitted a paper report. For FY 2005, a total of 60 percent of State agencies submitted the FNS-366B electronically with the remaining 40 percent submitting paper reports.

Finally, State agencies are required to submit certain other documents to FNS for review relating to certain specific activities that the State agency may choose to do. These other submissions include a written action plan, called an Advance Planning Document (APD), if the State agency wishes to acquire proposed automated data processing (ADP) services, systems or equipment, an outreach plan if the State elects to do program information activities, and updates related to options exercised under the Food Stamp Act, as amended.

Respondents: State agencies that administer the FSP.

Number of Respondents: 53.

Estimated Number of Responses per Respondent:

Plan of Operation Updates: 53 State agencies once a year.

Form FNS-366A: 53 State agencies once a year.

Form FNS-366B: 53 State agencies once a year.

Other APD, Plan, or Update Submissions: Up to 53 State agencies may submit one or more APD, plan or update submission averaging 4.75 submissions per respondent per year or 252 total responses.

Estimate of Burden:

Plan of Operation Updates: The State agencies submit Plan updates at an estimate of 10 hours per respondent, or 530 total hours.

Form FNS-366A: The State agencies submit Form FNS-366A at an estimate of 13 hours per respondent, or 689 total hours.

Form FNS-366B: The total burden for the collection of information for Form FNS-366B is 18 hours per respondent, or 954 hours.

Other APD, Plan, or Update Submissions: We estimate that up to 53 States may submit one or more submissions for an APD, plan, or update submission for a total of 252 annual responses at an average estimate of 2.681 hours per respondent, or 675.6 hours.

Estimated Total Annual Burden on Respondents: The total annual reporting and recordkeeping burden for OMB No. 0584-0083 is estimated to be 2,848.5 hours, an increase of 100 hours. The increase is due to a re-estimate of the time it takes for Other APD, Plan, or Update submissions.

Dated: March 20, 2007.
George A. Braley,
Acting Administrator Food and Nutrition Service.

[FR Doc. E7-5442 Filed 3-23-07; 8:45 am]

BILLING CODE 3410-30-P